INTERNATIONAL TRADE COMMISSION

[Investigation No. 337-TA-810]

Certain Navigation Products, Components Thereof, and Related Software; Determination Not To Review an Initial Determination Granting a Joint Motion To Terminate the Investigation on the Basis of a Settlement Agreement; Termination of the Investigation

AGENCY: U.S. International Trade Commission.

ACTION: Notice.

SUMMARY: Notice is hereby given that the U.S. International Trade Commission has determined not to review the presiding administrative law judge's (“ALJ”) initial determination (“ID”) (Order No. 9) granting a joint motion to terminate the investigation on the basis of a settlement agreement.

FOR FURTHER INFORMATION CONTACT: Amanda S. Pitcher, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 3, 2011, based on a complaint filed by Furuno Electric Co., Ltd. of Hyogo, Japan and Furuno U.S.A., Inc. of Camas, Washington. 76 FR 68209 (Nov. 3, 2011). The complaint alleges violations of section 337 based upon the importation into the United States, the sale for importation, and the sale within the United States after importation of certain navigation products, components thereof, and related software by reason of infringement of certain claims of U.S. Patent Nos. 6,084,565; 7,095,367; 7,089,094; and 7,161,561. The notice of investigation named Honeywell International Inc. of Morristown, New Jersey; and Skyforce Avionics Ltd. of West Sussex, United Kingdom as respondents.

On February 14, 2012, the ALJ issued the subject ID, granting a joint motion by all of the parties to terminate the investigation. The ALJ found that the settlement agreement complies with the requirements of Commission Rule 210.21(b) (19 CFR 210.21(b)) and that terminating the investigation would not be contrary to the public interest. None of the parties petitioned for review of the ID.

The Commission has determined not to review the ID. Accordingly, this investigation is terminated in its entirety.

The authority for the Commission's determination is contained in section 337 of the Tariff Act of 1930, as amended (19 U.S.C. 1337), and in section 210.42 of the Commission's Rules of Practice and Procedure (19 CFR 210.42).

Issued: March 13, 2012.
By order of the Commission.
James R. Holbein,
Secretary to the Commission.

[FR Doc. 2012-6836 Filed 3-20-12; 8:45 am]

BILLING CODE 7020-02-P